DEPARTMENT OF HOUSING AND URBAN DEVELOPMENT

[Docket No. FR-4644-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Barbara Jenkins, Air Force Real Estate Agency, (Area-MI), Bolling Air Force Base, 112 Luke Avenue, Suite 104, Building 5683, Washington, DC 20332-8020; (202) 767-4184; GSA: Mr. Brian K. Polly, Assistant Commissioner, General Services Administration, Office of Property Disposal, 18th and F Streets, NW, Washington, DC 20405; (202) 501-0052; INTERIOR: Ms. Linda Tribby, Acquisition & Property Management, Department of the Interior, 1849 C Street, NW, Washington, DC 20240; (202) 219-0728; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: September 20, 2001.
John D. Garrity,
Director, Office of Special Needs Assistance Programs.

Title V, Federal Surplus Property Program Federal Register Report for 9/28/01

Suitable/Available Properties

Buildings (by State)

Alabama

Federal Bldg.

301 Third Ave.

Cullman Co: AL 35055-

Landholding Agency: GSA

Property Number: 54200120005

Status: Excess

Comment: 30,887 sq. ft., 2-story, most recent use—office

GSA Number: 4-G-AL-769

California

Bldg. 50

Naval Postgraduate School

Monterey Co: CA 93943-

Landholding Agency: Navy

Property Number: 77200130106

Status: Excess

Comment: 252 sq. ft., needs rehab, presence of asbestos, most recent use—storage

Bldg. 58

Naval Postgraduate School

Monterey Co: CA 93943-

Landholding Agency: Navy

Property Number: 77200130107

Status: Excess

Comment: 1200 sq. ft., needs rehab, presence of asbestos/lead paint, most recent use—storage

Bldg. 203

Naval Postgraduate School

Monterey Co: CA 93943-

Landholding Agency: Navy

Property Number: 77200130108

Status: Excess

Comment: 7956 sq: ft., presence of asbestos, most recent use—admin.

Bldg. 209A

Naval Postgraduate School

Monterey Co: CA 93943-

Landholding Agency: Navy

Property Number: 77200130109

Status: Excess

Comment: 1826 sq. ft., presence of asbestos/lead paint, most recent use—sotorage

Bldg. 258

Naval Postgraduate School

Monterey Co: CA 93943-

Landholding Agency: Navy

Property Number: 77200130110

Status: Excess

Comment: 6468 sq. ft., presence of asbestos/lead paint, most recent use—firehouse

Illinois

Milo Comm. Tower Site

350 N. Rt. 8

Milo Co: Bureau IL 56142-

Landholding Agency: GSA

Property Number: 54200020018

Status: Excess

Comment: 120 sq. ft. cinder block bldg.

GSA Number: 1-D-IL-795

LaSalle Comm. Tower Site

1600 NE 8th St.

Richland Co: LaSalle IL 61370-

Landholding Agency: GSA

Property Number: 54200020019

Status: Excess

Comment: 120 sq. ft. cinder block bldg. and a 300′ tower

GSA Number: 1-D-IL-724

Kentucky

Soc. Sec. Admin. Fed. Bldg.

614 Master Street

Corbin Co: KY 40702-

Landholding Agency: GSA

Property Number: 54200120001

Status: Excess

Comment: approx. 9078 sq. ft., some repair needed, presence of asbestos/lead paint, most recent use—offices

GSA Number: 4-G-KY-609

Maryland

La Plata Housing

Radio Station Rd.

La Plata Co: Charles MD

Landholding Agency: GSA

Property Number: 54200110006

Status: Excess

Comment: townhouse complex of 20 units, 3-bedroom units = 997 sq. ft., 1115 sq. ft., and 1011 sq. ft., needs rehab, presence of asbestos/lead paint

GSA Number: 4-N-MD-601

29 Bldgs.

Walter Reed Army Medical Center

Forest Glen Annex, Linden Lane

Silver Spring Co: Montgomery MD 20910-1246

Location: 24 bldgs. are in poor condition, presence of asbestos/lead paint, most recent use—hospital annex, lab, office

Landholding Agency: GSA

Property Number: 54200130012

Status: Excess

Comment: Historic Preservation Covenants will impact reuse, property will not be parcelized for disposal, high cost associated w/maintenance, estimated cost to renovate $17 million

GSA Number: 4-D-MD-558-B

Massachusetts

Cross Terrace

S. Weymouth Naval Air Station

S. Weymouth Co: MA

Landholding Agency: GSA

Property Number: 54200110004

Status: Excess

Comment: 5 one story, 2 bedroom duplex housing units, needs rehab, off-site use only

GSA Number: 1-U-MA-860

USCG Air Station

Cape Cod Co: Barnstable MA

Landholding Agency: GSA

Property Number: 54200110005

Status: Underutilized

Comment: 60—2 & 3 bedroom housing units, may be difficulty in moving foundation, off-site use only

GSA Number: 1-U-MA-859

Michigan

Natl Weather Svc Ofc

214 West 14th Ave.

Sault Ste. Marie Co: Chippewa MI

Landholding Agency: GSA

Property Number: 54200120010

Status: Excess

Comment: 2230 sq. ft., presence of asbestos, most recent use—office

GSA Number: 1-C-MI-802

Minnesota

GAP Filler Radar Site

St. Paul Co: Rice MN 55101-

Landholding Agency: GSA

Property Number: 54199910009

Status: Excess

Comment: 1266 sq. ft., concrete block, presence of asbestos/lead paint, most recent use—storage, zoning requirements, preparations for a Phase I study underway, possible underground storage tank

GSA Number: 1-GR(1)-MN-475

Nevada

6 Cabins

#70, 14, 24, 5, 2, 21

Lake Meade, 601 Nevada Highway

Boulder Co: NV 89005-

Landholding Agency: Interior

Property Number: 61200130011

Status: Unutilized

Comment: vacation cabins, remote location, entranced fee required, presence of asbestos, off-site use only

New Jersey

Old Bridge Housing

Route 9

Old Bridge Co: NJ 08857-

Landholding Agency: GSA

Property Number: 54199940010

Status: Excess

Comment: 12 three bedroom housing units, no long-term wastewater treatment system for property, presence of asbestos/lead paint, needs repair

GSA Number: 0-0-NJ-000

Holmdel Housing Site

Telegraph Hill Road

Holmdel Co: Monmouth NJ 07733-

Landholding Agency: GSA

Property Number: 54200040005

Status: Excess

Comment: 12 housing units on 5.59 acres, 1196 sq ft. each, extreme disrepair

GSA Number: 1-N-NJ-622

New York

“Terry Hill”

County Road 51

Manorville NY

Landholding Agency: GSA

Property Number: 54199830008

Status: Surplus

Comment: 2 block structures, 780/272 sq. ft., no sanitary facilities, most recent use—storage/comm. facility, w/6.19 acres in fee and 4.99 acre easement, remote area

GSA Number: 1-D-NY-864

Binghampton Depot

Nolans Road

Binghampton Co: NY 00000-

Landholding Agency: GSA

Property Number: 54199910015

Status: Excess

Comment: 45,977 sq. ft., needs repair, presence of asbestos, most recent use—office

GSA Number: 1-G-NY-760A

Naval Reserve Center

Frankfort Co: Herkimer NY

Landholding Agency: GSA

Property Number: 54200040006

Status: Excess

Comment: 23,800 sq. ft., brick, good condition, most recent use—training center

GSA Number: 1-D-NY-874

Lockport Comm. Facility Annex

6625 Shawnee Road

Wheatfield Co: NY 14120-

Landholding Agency: GSA

Property Number: 54200120009

Status: Excess

Comment: 3334 sq. ft., presence of asbestos, most recent use—admin/storage

GSA Number: 1-D-NY-885

Pennsylvania

Uniontown Fed. Bldg.

34 West Peter Street

Uniontown Co: Fayette PA 15401-3336

Landholding Agency: GSA

Property Number: 54200110009

Status: Excess

Comment: 24,031 sq. ft., office space, possible lead paint/asbestos, hostoric property

GSA Number: 4-G-PA-789

Uniontown Federal Bldg.

34 West peter Street

Uniontown Co: Fayette PA 15401-3336

Landholding Agency: GSA

Property Number: 54200110011

Status: Excess

Comment: 24,031 sq. ft., office space, presence of asbestos/possible lead paint, historic property

GSA Number: 4-G-PA-789

South Carolina

Greenwood Fed. Bldg.

120 Main Street

Greenwood Co: SC 29646-

Landholding Agency: GSA

Property Number: 54200120012

Status: Excess

Comment: 35,782 sq. ft., presence of asbestos, possible lead paint, most recent use—office, historic preservation covenents

GSA Number: 4-G-SC-601

SSA/Fed. Bldg.

404 East Main Street.

Rock Hill Co: York SC 29730-

Landholding Agency: GSA

Property Number: 54200120013

Status: Surplus

Comment: 45895 sq. ft., presence of asbestos, most recent use—office.

GSA Number 4-SC-600

Tennessee

Marine Corps Rsv Center

2109 W. Market St.

Johnson City Co: Washington TN 37604

Landholding Agency: GSA

Property Number: 54200120003

Status: Surplus

Comment: 4 bldgs., presence of asbestos/lead paint, possible environmental restrictions, most recent use—training/storage.

GSA Number: 4-N-TN-0651

Virginia

Bldg. R-49

Naval Station

Norfolk Co: VA 23511-3095

Landholding Agency: Navy

Property Number: 77200130128

Status: Excess

Comment: 12506 sq. ft., extensive termite destruction, presence of asbestos, most recent use—admin., off-site use only

Bldg. SP-122

Naval Station

Norfolk Co: VA 23511-3095

Landholding Agency: Navy

Property Number: 77200130129

Status: Excess

Comment: 1994 sq. ft., needs rehab, presence of asbestos, most recent use—instructions bldg., off-site use only

Bldg. Z-206

Naval Station

Norfolk Co: VA 23511-

Landholding Agency: Navy

Property Number: 77200130130

Status: Excess

Comment: 37499 sq. ft., needs rehab, most recent use—shed, off-site use only

West Virginia

Beckley Fed. Bldg.

400 Neville Street

Beckley Co: Raleigh WV 25801-

Landholding Agency: GSA

Property Number: 54200110002

Status: Excess

Comment: 2 story, good condition, presence of asbestos—pipes

GSA Number: 4-5-WV-538

Land (by State)

Missouri

Improved Land

St. Louis Army Ammunition Plant

4800 Goodfellow Blvd.

St. Louis Co: MO 63120-1798

Landholding Agency: GSA

Property Number: 54200110007

Status: Surplus

Comment: 21 acres w/2 large bldgs. and numerous small bldgs. situated on 13 acres, 5 acres = parking lot and streets, presence of asbestos/lead paint, clean-up required to state regulator standards

GSA Number: 000000

Ohio

Jersey Tower Site

Tract No. 100 & 100E

Jersey Co: Licking OH 00000-

Landholding Agency: GSA

Property Number: 54199910013

Status: Surplus

Comment: 4.24 acres, subject to preservation of wetlands

GSA Number: 1-W-OH-813

Licking County Tower Site

Summit & Haven Corner Rds.

Pataskala Co: Licking OH 43062-

Landholding Agency: GSA

Property Number: 54200020021

Status: Excess

Comment: Parcel 100 = 3.67 acres, Parcel 100E = 0.57 acres

GSA Number: 1-W-OH-813

Pennsylvania

Gwen Site #868

Bonneauville

Smith Road

Gettysburg Co: Adams PA

Landholding Agency: GSA

Property Number: 54200040007

Status: Surplus

Comment: 13.85 acres, most recent use—to support communication

GSA Number: 4-D-PA-0788

Suitable/Unavailable Properties

Buildings (by State)

Alabama

Residence 1223

204 Akin Drive

Tuskegee Co: Macon AL 36083-

Landholding Agency: GSA

Property Number: 54200020023

Status: Excess

Comment: 1375 sq. ft., brick veneer, most recent use—residential

GSA Number: 4-A-AL-768

Georgia

Federal Building

109 N. Main Street

Lafayette Co: Walker GA 30728-

Landholding Agency: GSA

Property Number: 54199910014

Status: Excess

Comment: approx. 4761 sq. ft., does not meet ADA requirements for accessibility, easements/reservations restrictions, historic protective covenants

GSA Number: 4-G-GA-858

U.S. Post Office/Courthouse

337 W. Broad St.

Albany Co: Dougherty GA 31702-

Landholding Agency: GSA

Property Number: 54200120002

Status: Excess

Comment: 4800 sq. ft., presence of asbestos/lead paint, historic preservation covenants, most recent use—Fed. ofcs/P.O./Courthouse

GSA Number: 4-G-GA-866A

Illinois

Radar Communication Link

½ mi east of 116th St.

Co: Will IL

Landholding Agency: GSA

Property Number: 54199820013

Status: Excess

Comment: 297 sq. ft., concrete block bldg. with radar tower antenna, possible lead based paint, most recent use—air traffic control

GSA Number: 2-U-IL-696

Maryland

Washington Court Apartments

Maryland Rt. 755

Edgewood Co: Harford MD 21040-

Landholding Agency: GSA

Property Number: 5419994005

Status: Excess

Comment: 55 bldgs. housing 276 apartments, (2 to 4 bedrooms), need repairs, presence of lead based paint, property published in error as available on 2/11/00

GSA Number: 4-D-MD-559

De LaSalle Bldg.

4900 LaSalle Road

Avondale Co: Prince George MD 20782-

Landholding Agency: GSA

Property Number: 54200020007

Status: Excess

Comment: 130,000 sq. ft., multi-story on 17.79 acres, extensive rehab required, presence of asbestos/lead paint/pigeon infestation, subj. to easements, eligible for Nat'l Register

GSA Number: 4-G-MD-565A

Cheltenham Naval Comm. Dtchmt.

9190 Commo Rd., AKA 7700

Redman Rd.

Clinton Co: Prince George MD 20397-5520

Landholding Agency: GSA

Property Number: 77199330010

Status: Excess

Comment: 32 bldgs., various sq. ft., most recent use—admin/comm, & 39 family housing units on 230.35 acres, presence of lead paint/asbestos, 20.09 acres leased to County w/improvements

GSA Number: 4-N-MD-544A

Michigan

Detroit Job Corps Center

10401 E. Jefferson & 1438 Garland;

1265 St. Clair

Detroit Co: Wayne MI 42128-

Landholding Agency: GSA

Property Number: 54199510002

Status: Surplus

Comment: Main bldg. is 80,590 sq. ft., 5-story, adjacent parking lot, 2nd bldg. on St. Clair Ave. is 5140 sq. ft., presence of asbestos in main bldg., to be vacated 8/97

GSA Number: 2-L-MI-757

Minnesota

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Mississippi

Federal Building

236 Sharkey Street

Clarksdale Co: Coahoma MS 38614-

Landholding Agency: GSA

Property Number: 54199910004

Status: Excess

Comment: 15,233 sq. ft., courthouse

GSA Number: 4-G-MS-553

Missouri

Hardesty Federal Complex

607 Hardesty Avenue

Kansas City Co: Jackson MO 64124-3032

Landholding Agency: GSA

Property Number: 54199940001

Status: Excess

Comment: 7 warehouses and support buildings (540 to 216,000 sq. storage/office, utilities easement

GSA Number: 7-G-MO-637

North Carolina

Barhell Army Missile Plant

Burlington Co: Alamance NC 27215-

Landholding Agency: GSA

Property Number: 54199820002

Status: Excess

Comment: 31 bldgs., presence of asbestos, most recent use—admin., warehouse, production space and 10.04 acres parking area, contamination at site—environmental clean up in process

GSA Number; 4-D-NC-593

Vehicle Maint. Facility

310 New Bern Ave.

Raleigh Co: Wake NC 27601-

Landholding Agency: GSA

Property Number: 54200020012

Status: Excess

Comment: 10,455 sq. ft., most recent use—maintenance garage

GSA Number; NC076AB

Goldsboro Federal Bldg.

134 North John Street

Goldsboro Co: Wayne NC 27530-

Landholding Agency: GSA

Property Number: 54200020016

Status: Excess

Comment: 24,492 sq. ft., presence of asbestos/lead paint

GSA Number: 4-G-NC-736

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighting facilities/dock, potential use restrictions, property was published in error as available on 2/11/00

GSA Number: 4-D-TN-594F

200 bunkers

Volunteer Army Ammunition Plant

Storage Magazines

Chattanooga Co: Hamilton TN 37421-

Landholding Agency: GSA

Property Number: 54199930014

Status: Surplus

Comment: approx. 200 concrete bunkers covering a land area for approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Naval Hospital

5720 Integrity Drive

Millington Co: Shelby TN 38054-

Location: Bldgs. 98, 100, 103, 105, 111, 114, 116, 117, 118

Landholding Agency: GSA

Property Number: 54200020005

Status: Excess

Comment: 9 bldgs., various sq. ft., need major rehab

GSA Number: 4-N-TN-648

West Virginia

Moundsville Federal Bldg.

7th Street

Moundsville Co: Marshall WV 26041-

Landholding Agency: GSA

Property Number: 54200020024

Status: Excess

Comment: 9674 sq. ft., good condition, presence of asbestos, most recent use—office space

GSA Number: 4-G-WV-535

Old Post Office

Maple & King Streets

Martinsburg Co: Berkeley WV 25401-

Landholding Agency: GSA

Property Number: 54200030004

Status: Excess

Comment: 22,845 sq. ft., presence of asbestos/lead paint, most recent use—office/storage, included on the Natl Register of Historic Places

GSA Number: 4-G-WV-537

Former Army Rsv Ctr

201 Kanawha Avenue

Rainelle Co: WV 25962-1107

Landholding Agency: GSA

Property Number: 54200030006

Status: Excess

Comment: needs repair, possible asbestos/lead paint

GSA Number: 4-D-WV-536

Wisconsin

Wausau Federal Building

317 First Street

Wausau Co: Marathon WI 54401-

Landholding Agency: GSA

Property Number: 54199820016

Status: Excess

Comment: 30,500 sq. ft., presence of asbestos, eligible for listing on the Natl Register of Historic Places, most recent use—office

GSA Number: 1-G-WI-593

Army Reserve Center

401 Fifth Street

Kewaunee Co: WI 54216-1838

Landholding Agency: GSA

Property Number: 54199940004

Status: Excess

Comment: 2 admin. bldgs. (15,593 sq. ft.), 1 garage (1325 sq. ft.), need repairs, property was published in error as availabe on 2/11/00

GSA Number: 1-D-WI-597

Land (by State)

Maryland

12.52 acres

Casson Neck

Cambridge Co: Dorchester MD 00000-

Landholding Agency: GSA

Property Number: 54200020020

Status: Excess

Comment: 12.52 acres, possible restrictions due to wetlands

GSA Number: 4-U-MD-600A

Mississippi

Proposed Site

Army Reserve Center

Waynesboro Co: Wayne MD 39367-

Landholding Agency: GSA

Property Number: 54200010005

Status: Excess

Comment: 7.60 acres, most recent use—pine plantation, periodic flooding, possible wetlands on 30-40% of property

GSA Number: 4-D-MS-0555

North Carolina

6.45 acres

Portion of McKinney Lake

Fish Hatchery

Millstone Church Road

Hoffman Co: Richmond NC 28347-

Landholding Agency: GSA

Property Number: 54200020011

Status: Excess

Comment: 6.45 acres, most recent use—outdoor horticulture classes

Puerto Rico

La Hueca—Naval Station

Roosevelt Roads

Vieques PR 00765-

Landholding Agency: GSA

Property Number: 54199420006

Status: Excess

Comment: 323 acres, cultural site

Bahia Rear Range Light

Ocean Drive

Catano Co: PR 00632-

Landholding Agency: GSA

Property Number: 54199940003

Status: Excess

Comment: 0.167 w/skeletal tower, fenced, aid to navigation

GSA Number: 1-T-PR-508

Tennessee

1500 acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Unsuitable Properties

Buildings (by State)

Alabama

Sand Island Light House

Gulf of Mexico

Mobile AL

Landholding Agency: GSA

Property Number: 54199610001

Status: Excess

Reason: Inaccessible

GSA Number: 4-U-AL-763

Mobile Point Light

Gulf Shores Co: Baldwin AL 36542-

Landholding Agency: GSA

Property Number: 54199940011

Status: Excess

Reason: Within 2000 ft. of flammable or explosive material

GSA Number: 4-U-AL-767

Arizona

Bldgs. 301, 302, 303, 304

Lake Mead

Willow Beach Co: Mojave AZ

Landholding Agency: Interior

Property Number: 61200130012

Status: Unutilized

Reason: Extensive deterioration

Florida

Cape St. George Lighthouse

St. George Island Co: Franklin FL 32328-

Landholding Agency: GSA

Property Number: 54199940012

Status: Excess

Reasons: Floodway, Extensive deterioration

GSA Number: 4-U-FL-1167

Boca Grande Range

Rear Light

Gasparila Island Co: Lee FL 33921-

Landholding Agency: GSA

Property Number: 54199940013

Status: Excess

Reason: Floodway

GSA Number: 4-U-FL-1169

Sanibel Island Light

Sanibel Co: Lee FL 33957-

Landholding Agency: GSA

Property Number: 5419994014

Status: Excess

Reason: Floodway

GSA Number: 4-U-FL-1162

“Storage Bldg.”

Naval Air Station

Key West Co: Monroe FL 33040-

Landholding Agency: Navy

Property Number: 77200130138

Status: Underutilized

Reason: Secured Area

Bldg. A-108

Naval Air Station

Key West Co: Monroe FL 33040-

Landholding Agency: Navy

Property Number: 77200130139

Status: Unutilized

Reason: Within 2000 ft. of flammable or explosive material, Secured Area

Bldg. A-109

Naval Air Station

Key West Co: Monroe FL 33040-

Landholding Agency: Navy

Property Number: 77200130140

Status: Unutilized

Reasons: Within 2000 ft. of flammable or explosive material, Secured Area

Bldg. A-134

Naval Air Station

Key West Co: Monroe FL 33040-

Landholding Agency: Navy

Property Number: 77200130141

Status: Unutilized

Reasons:Within 2000 ft. of flammable or explosive material, Within airpirt runway clear zone, Secured Area

Bldg. A-227

Naval Air Station

Key West Co: Monroe FL 33040-

Landholding Agency: Navy

Property Number: 77200130142

Status: Underutilized

Reasons: Within airport runway clear zone, Secured Area

Bldg. A-515

Naval Air Station

Key West Co: Monroe FL 33040-

Landholding Agency: Navy

Property Number: 772200130143

Status: Underutilized

Reasons: Within airport runway clear zone, Secured Area

Bldg. A-963

Naval Air Station

Key West Co: Monroe FL 33040-

Landholding Agency: Navy

Property Number: 77200130144

Status: Unutilized

Reason: Secured Area

Bldg. A-993

Naval Air Station

Key West Co: Monroe FL 33040-

Landholding Agency: Navy

Property Number: 77200130145

Status: Unutilized

Reason: Secured Area

Bldg. A-4067

Naval Air Station

Key West Co: Monroe FL 33040-

Landholding Agency: Navy

Property Number: 77200130146

Status: Unutilized

Reason: Within 2000 ft. of flammable or explosive material. Within airport runway clear zone. Secured Area

“Washrack”

Naval Air Station

Key West Co: Monroe FL 33040-

Landholding Agency: Navy

Property Number: 77200130147

Status: Unutilized

Reason: Secured Area

Bldg. V-1005

Naval Air Station

Key West Co: Monroe FL 33040-

Landholding Agency: Navy

Property Number: 77200130148

Status: Underutilized

Reason: Secured Area

Bldg. V-4064

Naval Air Station

Key West Co: Monroe FL 33040-

Landholding Agency: Navy

Property Number: 77200130149

Status: Underutilized

Reason: Secured Area

Georgia

Bldg. 811

Robins AFB

Warner Robins Co: GA 31098-

Landholding Agency: Air Force

Property Number: 18200130017

Status: Unutilized

Reason: Extensive deterioration

Stored Products Insects

R&D Lab

3401 Edwin Street

Savannah Co: Chatham GA 31403-

Landholding Agency: GSA

Property Number: 54200010003

Status: Excess

Reason: Floodway

GSA Number: 4-A-GA-861

Range Rear Light

Blythe Island

Brunswick Co: Glynn GA 31525-

Landholding Agency: GSA

Property Number: 54200020001

Status: Excess

Reason: Extensive deterioration

GSA Number: 4-U-GA-863

Idaho

Moore Hall U.S. Army Rsve Ctr

1575 N. Skyline Dr.

Idaho Falls Co: Bonneville ID 83401-

Landholding Agency: GSA

Property Number: 21199720207

Status: Excess

Reason: Within 2000 ft. of flammable or explosive material

GSA Number: 9-D-ID-544

Rexburg Army Reserve Center

379 S. 2nd St. East

Rexburg Co: Madison ID 83440-

Landholding Agency: GSA

Property Number: 54200110001

Status: Excess

Reason: Within 2000 ft. of flammable or explosive material

GSA Number: 9-D-ID-546

Illinois

Navy Family Housing

18-units

Hanna City Co: Peoria IL 61536-

Landholding Agency: GSA

Property Number: 54199940018

Status: Excess

Reason: Within 2000 ft. of flammable or explosive material

GSA Number: 1-N-IL-723

Kansas

Sunflower AAP

DeSoto Co: Johnson KS 66018-

Landholding Agency: GSA

Property Number: 54199830010

Status: Excess

Reason: Extensive deterioration

GSA Number: 7-D-KS-0581

Michigan

Parcel 14, Boat House

East Tawas Co: Iosco MI

Landholding Agency: GSA

Property Number: 54199730014

Status: Excess

Reason: Extensive deterioration

GSA Number: 1-U-MI-500

Round Island Passage Light

Lake Huron

Lake Huron Co: Mackinac MI

Landholding Agency: GSA

Property Number: 54199730019

Status: Excess

Reason: Inaccessible

GSA Number: 1-U-MI-444B

Tracts 100-2, 100-3

Calumet Air Force Station

Calumet Co: Keweenaw MI 49913-

Landholding Agency: GSA

Property Number: 54199840004

Status: Excess

Reason: No legal access

GSA Number: 1-D-MI-659A

Navy Housing

64 Barberry Drive

Springfield Co: Calhoun MI 49015-

Landholding Agency: GSA

Property Number: 54200020013

Status: Excess

Reason: Within 2000 ft. of flammable or explosive material

GSA Number: 1-N-MI-795

Stroh Army Reserve Center

17825 Sherwood Ave.

Detroit Co: Wayne MI 00000-

Landholding Agency: GSA

Property Number: 54200040001

Status: Surplus

Reason: Within 2000 ft. of flammable or explosive material

GSA Number: 1-D-MI-798

Minnesota

Naval Ind. Rsv Ordnance Plant

Minneapolis Co: MN 55421-1498

Landholding Agency: GSA

Property Number: 54199930004

Status: Excess

Reason: Within 2000 ft. of flammable or explosive material

GSA Number: 1-N-MN-570

Nike Battery Site, MS-40

Castle Rock Township

Farmington Co: Dakota MN 00000-

Landholding Agency: GSA

Property Number: 54200020004

Status: Surplus

Reason: Within 2000 ft. of flammable or explosive material

GSA Number: 1-I-451-B

Nevada

Former Weather Service Office

Winnemucca Airport

Winnemucca Co: Humbolt NV 89445-

Landholding Agency: GSA

Property Number: 54199810001

Status: Excess

Reason: Within airport runway clear zone

GSA Number: 9-C-NV-509

6 Bldgs.

Dale Street Complex

300, 400, 500, 600, Block Bldg, Valve House

Boulder City Co: NV 89005-

Landholding Agency: GSA

Property Number: 54200020017

Status: Excess

Reason: Extensive deterioration

GSA Number: LC-00-01-RP

New Jersey

Telephone Repeater Site

U.S. Coast Guard

Monmouth Beach Co: Monmouth Beach NJ 07750-

Landholding Agency: GSA

Property Number: 54199910001

Status: Excess

Reason: Extensive deterioration

GSA Number: 1-U-NJ-628

30 Bldgs.

Camp Charles Wood

Ft. Monmouth Co: Eatontown NJ

Landholding Agency: GSA

Property Number: 5420020008

Status: Excess

Reason: Within 2000 ft. of flammable or explosive material

GSA Number: 1-D-NJ-470f

New York

2 Offshore Lighthouses

Great Lakes NY

Landholding Agency: GSA

Property Number: 54199630015

Status: Excess

Reason: Extensive deterioration

Turkey Point Light

Saugerties Co: Ulster NY

Landholding Agency: GSA

Property Number: 54200120014

Status: Excess

Reason: Floodway

GSA Number: 1-U-NY-880

Ohio

Toledo Harbor Lighthouse

Lake Erie

Toledo Co: Lucas OH 43611-

Landholding Agency: GSA

Property Number: 54199710014

Status: Excess

Reason: Inaccessible

GSA Number: 1-U-OH-801

Tennessee

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number: 4-D-TN-594F

17 Bldgs.

Volunteer Army Ammunition Plant

Acid Production

Chattanooga Co: Hamilton TN 37421-

Landholding Agency: GSA

Property Number: 54199930017

Status: Surplus

Reasons: Within 2000 ft. of flammable or explosive material contamination

GSA Number; 4-D-TN-594F

41 Facilities

Volunteer Army Ammunition Plant

TNT Production

Chattanooga Co: Hamilton TN 37421-

Landholding Agency: GSA

Property Number: 54199930018

Status: Surplus

Reason: contamination

GSA Number: 4-D-TN-594F

Tennessee

5 Facilities

Volunteer Army Ammunition Plant

Waste Water Treatment

Chattanooga Co: Hamilton TN 37421-

Landholding Agency: GSA

Property Number: 54199930019

Reason: Extensive deterioration

GSA Number: 4-D-TN-594A

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F

Army Reserve Center #2

360 Ornamental Metal Museum Dr.

Memphis Co: Shelby TN 38106-

Landholding Agency: GSA

Property Number: 54200120004

Status: Surplus

Reasons: Within 2000 ft. of flammable or explosive material, Extensive deterioration

GSA Number: 4-D-TN-0650

Texas

Station Port Mansfield

Port Mansfield Co: Willary TX 78598-

Landholding Agency: GSA

Property Number: 54199930008

Status: Surplus

Reason: Floodway

GSA Number: 7-U-TX-1057

Virginia

Bldg. A137

Naval Amphibious Base

Norfolk Co: VA 23521-3229

Landholding Agency: Navy

Property Number: 77200130111

Status: Excess

Reason: Extensive deterioration

Bldg. 3034

Naval Amphibious Base

Norfolk Co: VA 23521-3229

Landholding Agency: Navy

Property Number; 77200130112

Status: Excess

Reason: Extensive deterioration

Bldg. SP-228

Naval Station

Norfolk Co: VA 23511-

Landholding Agency: Navy

Property Number: 77200130113

Status: Excess

Reason: Extensive deterioration

Bldgs. 24143, 24142

Marine Corps Base

Quantico Co: VA 22134-

Landholding Agency: Navy

Property Number: 77200130114

Status: Excess

Reason: Extensive deterioration

Bldgs. 55, 3233

Marine Corps Base

Quantico Co: VA 22134-

Landholding Agency: Navy

Property Number: 77200130115

Status: Excess

Reason: Extensive deterioration

Bldg. B260

Naval Surface Warfare Center

Dahlgren Co: King George, VA 22448-5100

Landholding Agency: Navy

Property Number: 77200130116

Status: Unitilized

Reason: Extensive deterioration

Bldg. B452

Naval Surface Warfare Center

Dahlgren Co: King George, VA 22448-

Landholding Agency: Navy

Property Number: 77200130117

Status: Unitilized

Reason: Extensive deterioration

Bldg. B1361

Naval Surface Warfare Center

Dahlgren Co: King George, VA 22448-

Landholding Agency: Navy

Property Number: 77200130118

Status: Unitilized

Reason: Extensive deterioration

Bldg. B1360

Naval Surface Warfare Center

Dahlgren Co: King George, VA 22448-

Landholding Agency: Navy

Property Number: 77200130119

Status: Unitilized

Reason: Extensive deterioration

Bldg. B1362

Naval Surface Warfare Center

Dahlgren Co: King George, VA 22448-

Landholding Agency: Navy

Property Number: 77200130120

Status: Unitilized

Reason: Extensive deterioration

Bldg. B9409

Naval Surface Warfare Center

Dahlgren Co: King George, VA 22448-

Landholding Agency: Navy

Property Number: 77200130121

Status: Unitilized

Reason: Extensive deterioration

Bldg. B9412

Naval Surface Warfare Center

Dahlgren Co: King George VA 22448-

Landholding Agency: Navy

Property Number: 77200130122

Status: Unutilized

Reason: Extensive deterioration

Bldg. B9436

Naval Surface Warfare Center

Dahlgren Co: King George VA 22448-5100

Landholding Agency: Navy

Property Number: 77200130123

Status: Unutilized

Reason: Extensive deterioration

Bldg. B9445

Naval Surface Warfare Center

Dahlgren Co: King George VA 22448-5100

Landholding Agency: Navy

Property Number: 77200130124

Status: Unutilized

Reason: Extensive deterioration

Bldg. B9446

Naval Surface Warfare Center

Dahlgren Co: King George VA 22448-

Landholding Agency: Navy

Property Number: 77200130125

Status: Unutilized

Reason: Extensive deterioration

Bldg. B9461

Naval Surface Warfare Center

Dahlgren Co: King George VA 22448-

Landholding Agency: Navy

Property Number: 77200130126

Status: Unutilized

Reason: Extensive deterioration

Bldg. B9462

Naval Surface Warfare Center

Dahlgren Co: King George VA 22448-

Landholding Agency: Navy

Property Number: 77200130127

Status: Unutilized

Reason: Extensive deterioration

Bldg. LF-38

Naval Station

Norfolk Co: VA 23511-

Landholding Agency: Navy

Property Number: 77200130131

Status: Excess

Reason: Extensive deterioration

Bldgs. NM35, NM36, NM47

Naval Station

Norfolk Co: VA 23511-

Landholding Agency: Navy

Property Number: 77200130132

Status: Excess

Reason: Extensive deterioration

Bldg. U-41

Naval Station

Norfolk Co: VA 23511-

Landholding Agency: Navy

Property Number: 77200130133

Status: Excess

Reason: Extensive deterioration

Bldg. SP-67

Naval Station

Norfolk Co: VA 23511-

Landholding Agency: Navy

Property Number: 77200130134

Status: Excess

Reason: Extensive deterioration

Bldg. SP-70

Naval Station

Norfolk Co: VA 23511-

Landholding Agency: Navy

Property Number: 77200130135

Status: Excess

Reason: Extensive deterioration

Bldg. SP-71

Naval Station

Norfolk Co: VA 23511-

Landholding Agency: Navy

Property Number: 77200130136

Status: Excess

Reason: Extensive deterioration

Bldg. LP-159

Naval Station

Norfolk Co: VA 23511-

Landholding Agency: Navy

Property Number: 77200130137

Status: Excess

Reason: Extensive deterioration

Land (by State)

Alaska

2.3 acre site

Dillingham Small Boat Harbor

Dillingham Co: AK

Landholding Agency: GSA

Property Number: 54200110010

Status: Excess

Reason: Within 2000 ft. of flammable or explosive material

GSA Number: 9-D-AK-757

Connecticut

FAA Direction Finder

11 Quarry Rd.

Killingly Co: CT 06241-

Landholding Agency: GSA

Property Number: 54200110008

Status: Excess

Reason: Within 2000 ft. of flammable or explosive material

GSA Number: 1-U-CT-544

District of Columbia

Square 62

2216 C St., NW

Washington Co: DC 20037-

Landholding Agency: GSA

Property Number: 54200040004

Status: Excess

Reason: contamination

GSA Number: 4-G-DC-0478

Florida

(P) Ponce de Leon Inlet

2999 N. Peninsula Ave.

New Smyrna Beach Co: Volusia FL 32169-

Landholding Agency: GSA

Property Number: 54199940015

Status: Excess

Reason: Floodway

GSA Number: 4-U-FL-1170

Kentucky

9 Tracts

Daniel Boone National Forest

Co: Owsley KY 37902-

Landholding Agency: GSA

Property Number: 54199620012

Status: Excess

Reason: Floodway

GSA Number: 4-G-KY-607

Massachusetts

USCG Loran Station

Siasconset Co: Nantucket MA 20564-0880

Landholding Agency: GSA

Property Number 54200040008

Status: Excess

Reason: Within 2000 ft. of flammable or explosive material

GSA Number: 1-U-MA-858

Michigan

Port/EPA Large Lakes Rsch Lab

Grosse Ile Twp Co: Wayne MI

Landholding Agency: GSA

Property Number 54199720022

Status: Excess

Reason: Within airport runway clear zone

GSA Number: 1-Z-MI-554-A

Ohio

Lewis Research Center

Cedar Point Road

Cleveland Co: Cuyahoga OH 44135—

Landholding Agency: GSA

Property Number 54199610007

Status: Excess

Reason: Within 2000 ft. of flammable or explosive material. Within airport runway clear zone

GSA Number: 2-Z-OH-598-I

Pennsylvania

Novak Estate Land

off the Parkway West

Moon Township Co: Allegheny PA 15222—

Landholding Agency: GSA

Property Number 54200010006

Status: Excess

Reason: inaccessible

GSA Number: 4-G-PA-787

[FR Doc. 01-24007 Filed 9-27-01; 8:45 am]

BILLING CODE 4210-29-M